DEPARTMENT OF ENERGY

Federal Energy Regulatory Commission

[Docket No. RP00-176-001]

ANR Pipeline Company; Notice of Refund Report

June 5, 2000.

Take notice that on May 30, 2000, ANR Pipeline Company (ANR) tendered for filing this refund report as required by Section 154.501(e) of the regulations of the Commission. ANR reports that it made refunds totaling $1,143,861 on April 28, 2000, consisting of $1,112,881 in principal and $30,980 in interest, in compliance with the Commission's letter order dated April 13, 2000 at Docket No. RP00-176-000.

Any person desiring to protest said filing should file a protest with the Federal Energy Regulatory Commission, 888 First Street, NE., Washington, DC 20426, in accordance with section 385.211 of the Commission's Rules and Regulations. All such protests must be filed on or before June 12, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14564 Filed 6-8-00; 8:45 am]

BILLING CODE 6717-01-M